DEPARTMENT OF TRANSPORTATION

Federal Aviation Administration

14 CFR Parts 61, 91, 119, 121, 135, and 136

[Docket No. FAA-1998-4521; Notice No. 04-06]

RIN 2120-AF07

National Air Tour Safety Standards

AGENCY: Federal Aviation Administration (FAA), DOT.

ACTION: Notice of public meetings and extension of the comment period.

SUMMARY: On October 22, 2003, the FAA published a notice of proposed rulemaking (NPRM) that proposes regulations to govern commercial air tours throughout the United States. We are announcing two public meetings and are extending the comment period for the proposed rule. The public meetings and additional time for the public to comment will help us consider the concerns of those who may be most affected by the proposed rule.

DATES: The comment period for Notice No. 03-10, published on October 22, 2003 at 68 FR 60572, is extended until June 18, 2004. The FAA will hold public meetings in Washington, DC on May 11, 2004 and in Las Vegas, Nevada on May 21, 2004.

ADDRESSES: The meetings will be held at the following locations:

May 11—Holiday Inn on the Hill, 415 New Jersey Avenue, NW., Washington, DC 20001.

May 21—Clark County Government Center, Commission Chambers, 500 South Grand Central Parkway, Las Vegas, Nevada 89155.

You may continue to submit written comments to the docket, whether or not you participate in the public meetings. Address your comments to the Docket Management System, U.S. Department of Transportation, Room Plaza 401, 400 Seventh St., SW., Washington, DC 20590-0001. You must identify the docket number FAA-1998-4521 at the beginning of your comments, and you should submit two copies of your comments.

You may also submit comments through the Internet to http://dms/dot.gov. You may review the public docket containing comments to these proposed regulations in person in the Dockets Office between 9 a.m. and 5 p.m., Monday through Friday, except Federal holidays. The Dockets Office is on the plaza level at the Department of Transportation building at the address above. Also, you may review public dockets on the Internet at http://dms.dot.gov.

FOR FURTHER INFORMATION CONTACT: If you wish to speak at the public meetings or if you have questions about the public meetings please contact: Mark Lawyer, Office of Rulemaking, Federal Aviation Administration, 800 Independence Avenue, SW., Washington, DC 20591, Telephone: 202-493-4531, Fax: (202) 267-5075, Email: mark.lawyer@faa.gov.

If you have specific questions pertaining to the Notice of Proposed Rulemaking, please contact: Alberta Brown, Air Transportation Division, Flight Standards Service, AFS-200, Federal Aviation Administration, 800 Independence Avenue, SW., Washington, DC 20591, Telephone (202) 267-8166 ext. 78321, Email: Alberta.Brown@faa.gov.

SUPPLEMENTARY INFORMATION:

Background

We published a notice of proposed rulemaking on October 22, 2003 (68 FR 60572) that proposes to regulate commercial air tours throughout the United States. The notice provided a 90-day comment period that was to end on January 20, 2004. We received significant response to this NPRM, including numerous requests to extend the comment period and to conduct public meetings. On January 16, 2004, we published a notice to extend the comment period an additional 90 days to April 19, 2004 (69 FR 2529). On February 10, 2004, we published a notice of public meeting on the Internet (69 FR 6218). We held a public meeting on the Internet from February 23, 2004 through March 5, 2004. Approximately 1,000 persons participated in the public meeting on the Internet. Members of the public, aviation organizations, and some members of Congress have asked us to hold traditional public meetings, in addition to the public meeting we held on the Internet.

Public Meetings

We have carefully considered the requests for traditional public meetings. The public meeting on the Internet was an effort to allow broad participation throughout the country. It accomplished this. The participation in the public meeting on the Internet significantly exceeded the participation we would expect to achieve at a typical face to face public meeting. Approximately 1,000 persons registered and many of them actively participated. Many who participated through the Internet were located in widely dispersed small communities throughout the country. Many of these persons would not have been able to participate in a traditional public meeting because of the time and expense of traveling to a fixed location. It would be impractical to conduct a public meeting in every community in America where someone could be affected by the proposed rule.

Those who participated in the public meeting on the Internet provided us with much useful information about the industry and many suggestions that will help us develop a rule that will promote safety without imposing unnecessary burdens on the industry. We have also received positive comments about our efforts to broaden participation through use of the Internet. Many of you, however, including aviation organizations and some members of Congress, have asked us to also hold some face to face public meetings to allow you an opportunity to express your concerns directly to an FAA representative. We agree that this is appropriate because of the strong interest in this proposed rule.

Where and When we Will Hold Public Meetings

We will hold public meetings at the following locations, dates, and times:

City | Date | Time | Location
Washington, DC | May 11, 2004 | Registration, 8:30 a.m.-9 a.m., meeting begins 9 a.m | Holiday Inn on the Hill, 415 New Jersey Avenue, NW., Washington, DC 20001.
Las Vegas, Nevada | May 21, 2004 | Session One: Registration, 8:30 a.m.-9 a.m., meeting begins 9 a.m. Session Two: Registration, 6 p.m.-6:30 p.m., meeting begins 6:30 p.m. | Clark County Government Center, Commission Chambers, 500 South Grand Central Parkway, Las Vegas, Nevada 89155.

Participation at the Public Meetings

We will explain the purpose and background of the NPRM at the beginning of each public meeting.

If you wish to present oral statements at the meeting, you must contact the FAA no later than Tuesday, May 4, 2004 for the May 11, 2004 meeting in Washington, DC and no later than Friday, May 14 for the May 21, 2004 meeting in Las Vegas, Nevada. You should submit requests to participate to Mark Lawyer as listed above in the section titled FOR FURTHER INFORMATION CONTACT. You should include a summary of any oral comments you wish to present and an estimate of how much time you need. Requests that we receive after the dates shown above will be scheduled if time is available; however, the name of those individuals may not appear on the written agenda. We will prepare an agenda of speakers. This agenda will be available at each meeting. To accommodate as many speakers as possible, the amount of time allocated to each speaker may be less than the amount of time requested. If you need audiovisual equipment, please let us know at least 7 days before the meeting where you will use the equipment.

Public Meeting Procedures

1. There will be no admission fee or other charge to attend or to participate in the public meetings. The meetings will be open to all persons who have requested in advance to present statements or who register during the registration period on the day of the meetings, subject to the availability of space in the meeting room.

2. Representatives of the FAA will conduct the public meetings. A panel of experts will be present to briefly summarize the NPRM and receive information presented by participants. The FAA chairperson will explain procedural rules specific to the meetings at the beginning of each meeting.

3. Participants must limit their presentations and submissions of data to the issues of the NPRM.

4. One purpose of the meetings is to provide a forum to present information that is not currently available to the FAA.

5. We will try to accommodate all speakers; therefore, it may be necessary to limit the time available for an individual or group. The meetings may be accelerated to enable adjournment in less than the time scheduled. Once all speakers have been called upon and all attendees have had an opportunity to comment, the meetings will adjourn.

6. We can make sign and oral interpretation available at the meetings, as well as an assistive listening device, if requested 10 calendar days before each meeting.

7. We will arrange to have a court reporter record the meetings. A transcript of the meetings and all material accepted by the panel during the meetings will be included in the public docket, unless protected from disclosure. Each person interested in purchasing a copy of the transcript should contact the court reporter directly. We will provide this information at each meeting.

8. We will review and consider all information presented at the public meetings. Position papers or materials presenting views or information related to the NPRM may be accepted at the discretion of the presiding officer. Please provide 10 copies of all material that you present at the public meetings so we will have copies for the panel members. You may provide additional copies for the audience at your discretion.

9. Statements made by members of the panel are intended to facilitate discussions of the issues or clarify issues. We will consider all comments made at the public meetings before we make a final decision on any final rule.

10. The meetings are designed to solicit public views and further information that is relevant to the NPRM. Therefore, we will conduct the meeting in an informal and nonadversarial manner.

The Purpose of the Public Meetings and What We Need From You

The purpose of the public meetings is to obtain information from you that we do not already have. Some of you have said in comments that we do not have complete information on the air tour industry. We welcome information that will give us a better understanding of the industry. We also welcome comments that will help us develop a rule that will promote safety without imposing unnecessary burdens on the industry. Some of you have already provided useful suggestions. We welcome further suggestions.

In addition to other information you may wish to provide, responses to the following questions, either from individual companies or data collected from industry groups, would give us information that may help us develop a final rule:

• Do you fly air tours under the 25-mile exception found in 14 CFR 119.1(e)(2)?

• How many air tour flight hours do you fly each year?

• How many air tours do you fly?

• How much revenue do you collect and what are your direct and indirect costs per air tour or per year?

• How many aircraft and what makes and models do you use to provide air tours?

• What percent of your aviation business is comprised of air tours?

• What are the sources of your other aviation revenues?

• How many pilots do you employ in air tours?

• If the pilots also fly for other purposes, what percentage of their time is spent flying air tours?

• Do you conduct air tours over national parks?

• What percent of your annual air tour flight hours are conducted over national parks?

• What percent of your total revenues are attributable to air tours?

• If the 25-mile exception is withdrawn, would you apply for a part 121 or 135 certificate?

• If you could no longer provide air tours, how would that affect your business?

• Are there ways we could achieve the results intended by the proposed rule that would impose fewer burdens on the industry?

• The NTSB has recommended that we eliminate the 25-mile exception and establish a database of air tour operators. Are there other approaches we could take that would achieve an equivalent level of safety and impose fewer burdens on the industry?

If you are unable to participate in the public meetings, you may continue to comment in the docket.

Extension of the Comment Period

We are extending the comment period to June 18, 2004, to allow you opportunity to comment further after the public meetings.

Issued in Washington, DC on April 15, 2004.
Anthony F. Fazio,
Director, Office of Rulemaking.

[FR Doc. 04-8965 Filed 4-15-04; 4:32 pm]

BILLING CODE 4910-13-P